COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products and services to the Procurement List that will be furnished by nonprofit agencies employing persons who are blind or have other severe disabilities, and deletes a service previously provided by such an agency.

DATES: Comments Must Be Received on or Before: April 15, 2013.

ADDRESSES: Committee for Purchase From People Who Are Blind or Severely Disabled, 1401 S. Clark Street, Suite 10800, Arlington, Virginia 22202.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: MR 1147—Christmas Novelty Flag, Decorative, 28″ x 40″

NPA: Winston-Salem Industries for the Blind, Inc., Winston-Salem, NC

Contracting Activity: Military Resale-Defense Commissary Agency (DeCA), Fort Lee, VA

Coverage: C-List for the requirements of military commissaries and exchanges as aggregated by the Defense Commissary Agency.

NSN: 7510-01-389-2262—Self Stick Rectangular Flag, “Sign Here”, 1.0″ X 1.75″, Yellow Flags

NPA: Association for the Blind and Visually Impaired—Goodwill Industries of Greater Rochester, Rochester, NY

Contracting Activity: General Services Administration, New York, NY

Coverage: A-List for the Total Government Requirement as aggregated by the General Services Administration.

Ice Melt/De-Icer

NSN: 6850-01-598-1946—10 lbs.

NSN: 6850-01-598-1926—20 lbs.

NSN: 6850-01-598-1933—40 lbs.

NPA: Bosma Industries for the Blind, Inc., Indianapolis, IN

Contracting Activity: Defense Logistics Agency Aviation, Richmond, VA

Coverage: B-List for the Total Government Requirement as aggregated by the Defense Logistics Agency Aviation, Richmond, VA.

Services

Service Type/Location: Landscaping Maintenance Service, Defense Contract Management Agency (DCMA), 3901 A Avenue, Buildings 10500, 10501, 10201 and 1024, Fort Lee, VA.

NPA: Richmond Area Association for Retarded Citizens, Richmond, VA

Contracting Activity: Defense Contract Management Agency (DCMA), Fort Lee, VA

Service Type/Location: Tactical Vehicle Wash Facility Service, Yano Tactical Vehicle Wash Facility, Directorate of Training Sustainment, Harmony Church, Building 5525, Fort Benning, GA.

NPA: Power Works Industries, Inc., Columbus, GA

Contracting Activity: Dept of the Army, W6QM MICC-Ft Benning, Fort Benning, GA

Service Type/Location: Grounds Maintenance and Snow Removal Service, Army Corps of Engineers District Headquarters Bldg., 201 North Third Ave, Walla Walla, WA

NPA: Lillie Rice Center, Walla Walla, WA

Contracting Activity: Dept of the Army, W071 ENDIST Walla Walla, Walla Walla, WA

Service Type/Locations: Facilities Support Service

NPA: Work, Incorporated, Dorchester, MA (Prime Contractor)

Contracting Activity: Dept of the Navy, NAVAL FAC Engineering CMD MID LANT, Norfolk, VA.

Navy Operational Support Center Fort Schuyler-Bronx, 4 Pennyfield Avenue, Bronx, NY, NPA: (Subcontractor) The Corporate Source, Inc., New York, NY.

Navy Operational Support Center Plainville, 1 Linsley Drive, Plainville, CT, NPA: (Subcontractor) Easter Seals Capital Region & Eastern Connecticut, Inc., Windsor, CT.

Navy Operational Support Center Quincy, 85 Sea Street, Quincy, MA, NPA: (Subcontractor) Community Workshops, Inc., Boston, MA.

Navy Operational Support Center White River Junction, 207 Holiday Drive, White River Junction, VT, NPA: (Subcontractor) Northern New England Employment Services, Portland, ME.

USS Constitution, Boston Navy Yard, Building 5, Charlestown, MA. NPA: (Subcontractor) Morgan Memorial Goodwill Industries, Boston, MA.

Deletion

The following service is proposed for deletion from the Procurement List:

Service

Service Type/Location: CSS/Custodial/Warehousing Service, Commissary ANGB, 99 Pesch Circle, Building 420, Bangor, ME.

NPA: Pathways, Inc., Auburn, ME

Contracting Activity: Defense Commissary Agency (DECA) Fort Lee, VA

Barry S. Lineback,
Director, Business Operations.

[FR Doc. 2013-06031 Filed 3-14-13; 8:45 am]

BILLING CODE 6353-01-P